DEPARTMENT OF TRANSPORTATION

Federal Aviation Administration

14 CFR Part 39

[Docket No. FAA-2021-0663; Project Identifier MCAI-2020-01618-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2016-17-12, which applies to all Airbus SAS Model A318 series airplanes; Model A319-111, -112, -113, -114, -115, -131, -132, and -133 airplanes; Model A320-211, -212, -214, -231, -232, and -233 airplanes; and Model A321-111, -112, -131, -211, -212, -213, -231, and -232 airplanes. AD 2016-17-12 requires inspecting certain trimmable horizontal stabilizer actuators (THSAs) to determine the number of total flight cycles the THSA has accumulated, and replacing the THSA if necessary. Since the FAA issued AD 2016-17-12, the FAA has determined that new or more restrictive airworthiness limitations are necessary. This proposed AD would require revising the existing maintenance or inspection program, as applicable, to incorporate new or more restrictive airworthiness limitations, as specified in a European Union Aviation Safety Agency (EASA) AD, which is proposed for incorporation by reference. The FAA is proposing this AD to address the unsafe condition on these products.

DATES: The FAA must receive comments on this proposed AD by September 27, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that will be incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. For Airbus service information identified in this proposed AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0663. For the UTC Aerospace Systems material identified in this proposed AD that will not be incorporated by reference, contact Collins Aerospace, Product Support Department 13, Avenue de L'Eguillette—Saint-Ouen L'Aumone, Boite Postale 7186 95056 Cergy Pontoise Cedex, France; telephone 1-877-808-7575; email crc@collins.com; internet https://www.collinsaerospace.com/support.

Examining the AD Docket

You may examine the AD docket on the internet at https://www.regulations.gov by searching for and locating Docket No. FAA-2021-0663; or in person at Docket Operations between 9 a.m. and 5 p.m., Monday through Friday, except Federal holidays. The AD docket contains this NPRM, any comments received, and other information. The street address for Docket Operations is listed above.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Comments Invited

The FAA invites you to send any written relevant data, views, or arguments about this proposal. Send your comments to an address listed under ADDRESSES. Include “Docket No. FAA-2021-0663; Project Identifier MCAI-2020-01618-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Sanjay Ralhan, Aerospace Engineer, Large Aircraft Section, International Validation Branch, FAA, 2200 South 216th St., Des Moines, WA 98198; telephone and fax 206-231-3223; email sanjay.ralhan@faa.gov. Any commentary that the FAA receives which is not specifically designated as CBI will be placed in the public docket for this rulemaking.

Background

The FAA issued AD 2016-17-12, Amendment 39-18625 (81 FR 58823, August 26, 2016) (AD 2016-17-12), for all Airbus SAS Model A318 series airplanes; Model A319-111, -112, -113, -114, -115, -131, -132, and -133 airplanes; Model A320-211, -212, -214, -231, -232, and -233 airplanes; and Model A321-111, -112, -131, -211, -212, -213, -231, and -232 airplanes. AD 2016-17-12 requires inspecting certain THSAs to determine the number of total flight cycles the THSA has accumulated, and replacing the THSA if necessary. The FAA issued AD 2016-17-12 to address premature wear of the carbon friction disks on the no-back brake (NBB) of the THSA, which could lead to reduced braking efficiency in certain load conditions, and, in conjunction with the inability of the power gear train to keep the ball screw in its last commanded position, could result in uncommanded movements of the trimmable horizontal stabilizer and loss of control of the airplane.

Actions Since AD 2016-17-12 Was Issued

Since the FAA issued AD 2016-17-12, new investigations determined that the compliance time for removal from service and replacement of certain THSA NBB disks must be reduced. This task was required by AD 2016-17-12, and the task and newly reduced compliance time have now been incorporated into Airbus A318/A319/A320/A321 Airworthiness Limitations Section (ALS) Part 4 Variation 7.1, dated October 5, 2020. The FAA has therefore determined that new or more restrictive airworthiness limitations are necessary.

EASA, which is the Technical Agent for the Member States of the European Union, has issued EASA AD 2020-0270, dated December 7, 2020 (EASA AD 2020-0270) (also referred to as the Mandatory Continuing Airworthiness Information, or the MCAI), to correct an unsafe condition for all Airbus SAS Model A318-111, -112, -121, and -122 airplanes; Model A319-111, -112, -113, -114, -115, -131, -132, -133, -151N, -153N, and -171N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes. Model A320-215 airplanes are not certificated by the FAA and are not included on the U.S. type certificate data sheet; this AD therefore does not include those airplanes in the applicability.

Airplanes with an original airworthiness certificate or original export certificate of airworthiness issued after October 5, 2020, must comply with the airworthiness limitations specified as part of the approved type design and referenced on the type certificate data sheet. However, Airbus A318/A319/A320/A321 Airworthiness Limitations Section (ALS) Part 4 Variation 7.1 specifies that replacements can be accomplished in accordance with certain service information, while this proposed AD would require accomplishing those replacements in accordance with certain service information. To ensure all maintenance or inspection programs incorporate the revised task, including the revised replacement requirements, this proposed AD would therefore require all operators to revise their existing maintenance or inspection program to include either the revised task including the revised provisions for replacement, or the revised provisions for replacement, depending on when the original airworthiness certificate or original export certificate of airworthiness was issued.

EASA AD 2020-0270 specifies that it requires a task (limitation) already required by EASA AD 2020-0034, dated February 25, 2020 (which corresponds to FAA AD 2020-21-10, Amendment 39-21283 (85 FR 65190, October 15, 2020) (AD 2020-21-10)) and invalidates (terminates) prior instructions for that task. This proposed AD would terminate the ALS limitation for task 274000-00004-1-E for the THSAs, as required by paragraph (i) of AD 2020-21-10, for Model A318-111, -112, -121, and -122 airplanes; Model A319-111, -112, -113, -114, -115, -131, -132, -133, -151N, and -153N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes; with an original airworthiness certificate or original export certificate of airworthiness issued on or before November 7, 2019, only.

This proposed AD was prompted by a determination that new or more restrictive airworthiness limitations are necessary. The FAA is proposing this AD to address premature wear of the carbon friction disks on the NBB of the THSA, which could lead to reduced braking efficiency in certain load conditions, and, in conjunction with the inability of the power gear train to keep the ball screw in its last commanded position, could result in uncommanded movements of the trimmable horizontal stabilizer and loss of control of the airplane. See the MCAI for additional background information.

Model A320-216 Airplanes

The Airbus SAS Model A320-216 was U.S. type certificated on December 19, 2016. Before that date, any EASA ADs that affected Model A320-216 airplanes were included in the U.S. type certificate as part of the Required Airworthiness Actions List (RAAL). One or more Model A320-216 airplanes have subsequently been placed on the U.S. Register, and will now be included in FAA AD actions. For Model A320-216 airplanes, the requirements that correspond to AD 2016-17-12 were mandated by the MCAI via the RAAL. Although that RAAL requirement is still in effect, for continuity and clarity the FAA has identified Model A320-216 airplanes in paragraph (c) of this proposed AD; the MCAI that is specified in paragraph (l) in this proposed AD includes restated requirements, which would therefore apply to those airplanes.

Related Service Information Under 1 CFR Part 51

EASA AD 2020-0270 describes new or more restrictive airworthiness limitations for airplane structures and safe life limits.

Airbus A318/A319/A320/A321 Airworthiness Limitations Section (ALS) Part 4 Variation 7.1, dated October 5, 2020, describes a task for removal from service and replacement of certain THSA NBB disks.

This proposed AD would also require Airbus Service Bulletin A320-27-1242, Revision 01, dated February 4, 2016, which the Director of the Federal Register approved for incorporation by reference as of September 30, 2016 (81 FR 58823, August 26, 2016).

This material is reasonably available because the interested parties have access to it through their normal course of business or by the means identified in the ADDRESSES section.

FAA's Determination and Requirements of This Proposed AD

This product has been approved by the aviation authority of another country, and is approved for operation in the United States. Pursuant to the FAA's bilateral agreement with the State of Design Authority, the FAA has been notified of the unsafe condition described in the MCAI and service information referenced above. The FAA is proposing this AD because the FAA has evaluated all pertinent information and determined an unsafe condition exists and is likely to exist or develop on other products of the same type design.

Proposed AD Requirements

This proposed AD would retain the requirements of AD 2016-17-12. This proposed AD would also require revising the existing maintenance or inspection program, as applicable, to incorporate new or more restrictive airworthiness limitations, which are specified in EASA AD 2020-0270 described previously, as proposed for incorporation by reference. Any differences with EASA AD 2020-0270 are identified as exceptions in the regulatory text of this AD.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (p)(1) of this proposed AD.

Explanation of Required Compliance Information

In the FAA's ongoing efforts to improve the efficiency of the AD process, the FAA developed a process to use certain civil aviation authority (CAA) ADs as the primary source of information for compliance with requirements for corresponding FAA ADs. The FAA has been coordinating this process with manufacturers and CAAs. As a result, the FAA proposes to incorporate EASA AD 2020-0270 by reference in the FAA final rule. This proposed AD would, therefore, require compliance with EASA AD 2020-0270 in its entirety through that incorporation, except for any differences identified as exceptions in the regulatory text of this proposed AD. Using common terms that are the same as the heading of a particular section in EASA AD 2020-0270 does not mean that operators need comply only with that section. For example, where the AD requirement refers to “all required actions and compliance times,” compliance with this AD requirement is not limited to the section titled “Required Action(s) and Compliance Time(s)” in EASA AD 2020-0270. Service information required by EASA AD 2020-0270 for compliance will be available at https://www.regulations.gov by searching for and locating Docket No. FAA-2021-0663 after the FAA final rule is published.

Airworthiness Limitation ADs Using the New Process

The FAA's process of incorporating by reference MCAI ADs as the primary source of information for compliance with corresponding FAA ADs has been limited to certain MCAI ADs (primarily those with service bulletins as the primary source of information for accomplishing the actions required by the FAA AD). However, the FAA is now expanding the process to include MCAI ADs that require a change to airworthiness limitation documents, such as airworthiness limitation sections.

For these ADs that incorporate by reference an MCAI AD that changes airworthiness limitations, the FAA requirements are unchanged. Operators must revise the existing maintenance or inspection program, as applicable, to incorporate the information specified in the new airworthiness limitation document. The airworthiness limitations must be followed according to 14 CFR 91.403(c) and 91.409(e).

The previous format of the airworthiness limitation ADs included a paragraph that specified that no alternative actions (e.g., inspections) or intervals may be used unless the actions or intervals are approved as an alternative method of compliance (AMOC) in accordance with the procedures specified in the AMOCs paragraph under “Other FAA Provisions.” This new format includes a “New Provisions for Alternative Actions and Intervals” paragraph that does not specifically refer to AMOCs, but operators may still request an AMOC to use an alternative actions or intervals.

Costs of Compliance

The FAA estimates that this proposed AD affects 1,630 airplanes of U.S. registry. The FAA estimates the following costs to comply with this proposed AD:

Estimated Costs for Required Actions *
Action | Labor cost | Parts cost | Cost per product | Cost on U.S. operators
Retained actions from AD 2016-17-12 (959 airplanes) | 1 work-hour × $85 per hour = $85 | $0 | $85 | $81,515
* Table does not include estimated costs for reporting/revising the existing maintenance or inspection program.

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new proposed actions to be $7,650 (90 work-hours × $85 per work-hour).

The FAA estimates the following costs to do any necessary on-condition actions that would be required based on the results of any required actions. The FAA has no way of determining the number of aircraft that might need this on-condition action:

Estimated Costs of On-Condition Actions
Labor cost | Parts cost | Cost per product
21 work-hours × $85 per hour = $1,785 | $26,500 | $28,285

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-17-12, Amendment 39-18625 (81 FR 58823, August 26, 2016); and

b. Adding the following new AD:

Airbus SAS: Docket No. FAA-2021-0663; Project Identifier MCAI-2020-01618-T.

(a) Comments Due Date

The FAA must receive comments on this airworthiness directive (AD) by September 27, 2021.

(b) Affected ADs

(1) This AD replaces AD 2016-17-12, Amendment 39-18625 (81 FR 58823, August 26, 2016) (AD 2016-17-12).

(2) This AD affects AD 2020-21-10, Amendment 39-21283 (85 FR 65190, October 15, 2020) (AD 2020-21-10).

(c) Applicability

This AD applies to all Airbus SAS airplanes, certificated in any category, identified in paragraphs (c)(1) through (7) of this AD.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(5) Model A319-151N, -153N, and -171N airplanes.

(6) Model A320-251N, -252N, -253N, -271N, -272N, and -273N airplanes.

(7) Model A321-251N, -251NX, -252N, -252NX, -253N, -253NX, -271N, -271NX, -272N, and -272NX airplanes.

(d) Subject

Air Transport Association (ATA) of America Code 05, Time Limits/Maintenance Checks; 27, Flight Controls.

(e) Reason

This AD was prompted by a determination that new or more restrictive airworthiness limitations are necessary. The FAA is issuing this AD to address premature wear of the carbon friction disks on the no-back brake (NBB) of the trimmable horizontal stabilizer actuator (THSA), which could lead to reduced braking efficiency in certain load conditions, and, in conjunction with the inability of the power gear train to keep the ball screw in its last commanded position, could result in uncommanded movements of the trimmable horizontal stabilizer and loss of control of the airplane.

(f) Compliance

Comply with this AD within the compliance times specified, unless already done.

(g) Retained Inspection To Determine THSA Part Number and Accumulated Total Flight Cycles, With No Changes

This paragraph restates the requirements of paragraph (g) of AD 2016-17-12, with no changes. For airplanes identified in paragraphs (c)(1) through (4) of this AD: No later than each date specified in paragraphs (g)(1) through (5) of this AD, inspect the THSA to determine if it has a part number (P/N) 47145-(XXX), and, if any THSA P/N 47145-(XXX) is found, determine the total number of flight cycles accumulated since the THSA's first installation on an airplane, or since the most recent NBB replacement, whichever is later. A review of airplane delivery or maintenance records is acceptable in lieu of this inspection if the part number of the THSA can be conclusively determined from that review. In case maintenance records concerning the most recent NBB disk replacement are unavailable or incomplete, the total flight cycles accumulated since first installation of the THSA on an airplane apply. Accomplishing the maintenance or inspection program revision required by paragraph (l) of this AD terminates the requirements of this paragraph.

(1) As of September 30, 2016 (the effective date of AD 2016-17-12): The THSA flight-cycle limit (since first installation on an airplane, or since the most recent NBB replacement, whichever is later) is 40,000 total flight cycles.

(2) As of December 31, 2016: The THSA flight-cycle limit (since first installation on an airplane, or since the most recent NBB replacement, whichever is later) is 36,000 total flight cycles.

(3) As of December 31, 2017: The THSA flight-cycle limit (since first installation on an airplane, or since the most recent NBB replacement, whichever is later) is 33,600 total flight cycles.

(4) As of December 31, 2018: The THSA flight-cycle limit (since first installation on an airplane, or since the most recent NBB replacement, whichever is later) is 31,600 total flight cycles.

(5) As of December 31, 2019: The THSA flight-cycle limit (since first installation on an airplane, or since the most recent NBB replacement, whichever is later) is 30,000 total flight cycles.

(h) Retained Replacements, With No Changes

This paragraph restates the requirements of paragraph (h) of AD 2016-17-12, with no changes. For airplanes identified in paragraphs (c)(1) through (4) of this AD: For airplanes with any THSA P/N 47145-(XXX), do the replacements required by paragraphs (h)(1) and (2) of this AD. Accomplishing the maintenance or inspection program revision required by paragraph (l) of this AD terminates the requirements of this paragraph.

(1) No later than each date specified in paragraphs (g)(1) through (5) of this AD, replace all THSA that have reached or exceeded on each date the corresponding number of flight cycles specified in paragraphs (g)(1) through (5) of this AD. Do the replacement in accordance with the Accomplishment Instructions of Airbus Service Bulletin A320-27-1242, Revision 01, dated February 4, 2016. Affected THSAs must be replaced with serviceable THSAs.

(2) As of each date specified in paragraphs (g)(1) through (5) of this AD, and before exceeding the flight cycle limit corresponding to each date, as applicable: Replace each THSA with a serviceable THSA, in accordance with the Accomplishment Instructions of Airbus Service Bulletin A320-27-1242, Revision 01, dated February 4, 2016.

(i) Retained Definition of Serviceable THSA, With No Changes

This paragraph restates the definition of paragraph (i) of AD 2016-17-12, with no changes. For airplanes identified in paragraphs (c)(1) through (4) of this AD: For the purposes of this AD, a serviceable THSA is a THSA that has not exceeded the applicable flight-cycle limits, as specified paragraphs (g)(1) through (5) of this AD, since first installation of the THSA on an airplane or since last NBB replacement, whichever is later.

Note 1 to paragraph (i): Guidance for NBB disk replacement can be found in UTC Aerospace Systems Service Bulletin 47145-27-17, Revision 1, dated July 21, 2015.

(j) Retained Parts Installation Limitation, With No Changes

This paragraph restates the provisions of paragraph (j) of AD 2016-17-12, with no changes. For airplanes identified in paragraphs (c)(1) through (4) of this AD: As of each date specified in paragraphs (g)(1) through (5) of this AD, as applicable, only installation of a serviceable THSA P/N 47145-(XXX) is allowed on an airplane. Accomplishing the maintenance or inspection program revision required by paragraph (l) of this AD terminates the requirements of this paragraph.

(k) Retained Credit for Previous Actions, With No Changes

This paragraph restates the requirements of paragraph (k) of AD 2016-17-12, with no changes. For airplanes identified in paragraphs (c)(1) through (4) of this AD: This paragraph provides credit for actions required by paragraph (h) of this AD, if those actions were performed before September 30, 2016 (the effective date of AD 2016-17-12), using Airbus Service Bulletin A320-27-1242, dated February 9, 2015.

(l) New Maintenance or Inspection Program Revision

(1) For the airplanes identified in paragraph (c) of this AD with an original airworthiness certificate or original export certificate of airworthiness issued on or before October 5, 2020, except as specified in paragraph (m) of this AD: Comply with all required actions and compliance times specified in, and in accordance with, European Union Aviation Safety Agency (EASA) AD 2020-0270, dated December 7, 2020 (EASA AD 2020-0270). Accomplishing the maintenance or inspection program revision required by this paragraph terminates the requirements of paragraphs (g), (h), and (j) of this AD.

(2) For the airplanes identified in paragraph (c) of this AD with an original airworthiness certificate or original export certificate of airworthiness issued after October 5, 2020, revise the existing maintenance or inspection program, as applicable, to incorporate the provision specified in paragraph (m)(7) of this AD.

(m) Exceptions to EASA AD 2020-0270

(1) Where EASA AD 2020-0270 refers to its effective date, this AD requires using the effective date of this AD.

(2) The requirements specified in paragraphs (1) and (2) of EASA AD 2020-0270 do not apply to this AD.

(3) Paragraph (3) of EASA AD 2020-0270 specifies revising “the approved AMP” within 12 months after its effective date, but this AD requires revising the existing maintenance or inspection program, as applicable, within 90 days after the effective date of this AD.

(4) The initial compliance time for doing the tasks specified in paragraph (3) of EASA AD 2020-0270 is at the applicable “thresholds” as incorporated by the requirements of paragraph (3) of EASA AD 2020-0270, or within 90 days after the effective date of this AD, whichever occurs later.

(5) The provisions specified in paragraph (4) of EASA AD 2020-0270 do not apply to this AD.

(6) The “Remarks” section of EASA AD 2020-0270 does not apply to this AD.

(7) For all airplanes identified in paragraph (c) of this AD: Where Note 1 in the service information referenced in EASA AD 2020-0270 specifies “NBB carbon disc replacement can be accomplished in accordance with SB A320-27-1242 or VSB 47145-27-17,” for this AD use “NBB carbon disk replacement must be accomplished in accordance with SB A320-27-1242.”

(n) New Provisions for Alternative Actions and Intervals

After the existing maintenance or inspection program has been revised as required by paragraph (l) of this AD, no alternative actions (e.g., inspections) or intervals are allowed unless they are approved as specified in the provisions of the “Ref. Publications” section of EASA AD 2020-0270.

(o) Terminating Action for Certain Requirements of AD 2020-21-10

Accomplishing the actions required by this AD terminates the ALS limitation task 274000-00004-1-E for the THSA, as required by paragraph (i) of AD 2020-21-10, for Model A318-111, -112, -121, and -122 airplanes; Model A319-111, -112, -113, -114, -115, -131, -132, -133, -151N, and -153N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes; with an original airworthiness certificate or original export certificate of airworthiness issued on or before November 7, 2019, only.

(p) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (q)(4) of this AD. Information may be emailed to: 9-AVS-AIR-730-AMOC@faa.gov.

(i) Before using any approved AMOC, notify your appropriate principal inspector, or lacking a principal inspector, the manager of the responsible Flight Standards Office.

(ii) AMOCs approved previously for AD 2016-17-12 are approved as AMOCs for the corresponding provisions of EASA AD 2020-0270 that are required by paragraph (l) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (p)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(q) Related Information

(1) For EASA AD 2020-0270, contact EASA, Konrad-Adenauer-Ufer 3, 50668 Cologne, Germany; telephone +49 221 8999 000; email ADs@easa.europa.eu; internet www.easa.europa.eu. You may find this EASA AD on the EASA website at https://ad.easa.europa.eu.

(2) For Airbus service information identified in this proposed AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

(3) For UTC Aerospace Systems material identified in this proposed AD, contact Collins Aerospace, Product Support Department 13, Avenue de L'Eguillette—Saint-Ouen L'Aumone, Boite Postale 7186 95056 Cergy Pontoise Cedex, France; telephone 1-877-808-7575; email crc@collins.com; internet https://www.collinsaerospace.com/support.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0663.

(5) For more information about this AD, contact Sanjay Ralhan, Aerospace Engineer, Large Aircraft Section, International Validation Branch, FAA, 2200 South 216th St., Des Moines, WA 98198; telephone and fax 206-231-3223; email sanjay.ralhan@faa.gov.

Issued on August 5, 2021.
Lance T. Gant,
Director, Compliance & Airworthiness Division, Aircraft Certification Service.

[FR Doc. 2021-17091 Filed 8-12-21; 8:45 am]

BILLING CODE 4910-13-P